DEPARTMENT OF HEALTH AND HUMAN SERVICES

Agency for Healthcare Research and Quality

Request for Nominations of Children's Healthcare Quality Measures for Potential Inclusion in the CHIPRA 2013 Improved Core Set of Health Care Quality Measures for Medicaid/CHIP

AGENCY: Agency for Healthcare Research and Quality (AHRQ), HHS.

ACTION: Notice of Request for measures.

SUMMARY: Section 401(a) of the Children's Health Insurance Program Reauthorization Act of 2009 (CHIPRA), Public Law 111-3, amended the Social Security Act to enact section 1139A (42 U.S.C.1320b-9a). Section 1139A(b) charged the Department of Health and Human Services (HHS) with improving pediatric health care quality measures. The Agency for Healthcare Research and Quality (AHRQ) is soliciting the submission of measures of children's healthcare quality for potential inclusion in the CHIPRA 2013 Improved Core Set of Health Care Quality Measures (the “Improved Core Set”) for potential voluntary use by Medicaid and the Children's Health Insurance Program. In addition, CHIPRA established the Pediatric Quality Measures Program to increase the portfolio of measures available to public and private purchasers of children's health care services, providers, and consumers. HHS anticipates that measures ultimately included in the Improved Core Set will also be used by public and private purchasers to measure pediatric healthcare quality. AHRQ is interested in information about the importance, scientific validity, and feasibility of the measures. If a measure is selected for inclusion, more information, including a copyright release (if applicable) and full measure specifications would be needed.

DATES: Please submit materials within 60 days of publication of this notice.

ADDRESSES: Electronic submissions are encouraged, preferably as an email with one or more electronic files in a standard word processing format as an email attachment. Submissions may also be in the form of a letter to: Denise Dougherty, Ph.D., Senior Advisor, Child Health and Quality Improvement, Agency for Healthcare Research and Quality, 540 Gaither Rd, Rockville, MD 20850, Phone: 301-427-1868, Fax: 301-427-1562, Email: denise.DOUGHERTY@AHRQ.hhs.gov.

It would be most helpful to the Agency if commenters would include the following information in their response: measure characteristics: measure name; measure description; denominator statement (if applicable); numerator statement (if applicable); data sources and exclusions; applicable proprietary rights (e.g., patent or data rights); any confidentiality or trade secret protections; whether the measure is part of a measure hierarchy (e.g., a collection of measures, a measure set, a measure subset as defined at http://www.QUALITYMEASURES.AHRQ.gov/about/hierarchy.aspx); detailed measure specifications; importance of the measure; settings, services, measure domains, and populations addressed by the measure; evidence for focus of the measure; scientific soundness of the measure; results of any efforts to demonstrate the capacity of the measure to produce results that stratify by race/ethnicity, socioeconomic status, special health care need, and/or rurality/urbanicity; feasibility of the measure (e.g., availability of data in existing data systems); levels at which the measure can be aggregated (e.g., State, health plan, provider); understandability to consumers and providers; health information technology readiness and sensitivity (e.g., whether the measure has been tested in an electronic health record or other health information technology); followup contact information.

AHRQ would also be interested in a summary rationale for why the measure should be included in the 2013 Improved Core Set, taking into account a balance among desirable attributes of the measure. For example, you may be want to describe advantages that this measure has over alternative measures that were considered by the measure developer or advantages that this measure has over existing measures.

FOR FURTHER INFORMATION CONTACT: Denise Dougherty, Ph.D., Senior Advisor, Child Health and Quality Improvement, Agency for Healthcare Research and Quality, 540 Gaither Rd, Rockville, MD 20850, Phone: 301-427-1868, Fax: 301-427-1562, Email: denise.DOUGHERTY@AHRQ.hhs.gov.

SUPPPLEMENTARY INFORMATION: Section 401(a) of the Children's Health Insurance Program Reauthorization Act of 2009 (CHIPRA), Public Law 111-3, amended the Social Security Act to enact section 1139A (42 U.S.C. 1320b-9a). Section 1139A(b) charged the Department of Health and Human Services (HHS) with improving pediatric health care quality measures. Since CHIPRA was passed, the Agency for Healthcare Research and Quality (AHRQ) and the Centers for Medicare & Medicaid Services (CMS) have been working together to implement selected provisions of the legislation related to children's health care quality (www.AHRQ.gov/CHIPRA). An initial core measure set for voluntary use by Medicaid and Children's Health Insurance Programs was posted December 29, 2009 (http://www.GPO.gov/fdsys/PKG/FR-2009-12-29/html/E9-30802.htm). In February 2010, CMS released a State Health Official letter which outlined the initial core measures and how they should be reported to CMS.

Subsequently, AHRQ and CMS established the CHIPRA Pediatric Quality Measures Program (PQMP) to enhance select pediatric quality measures and develop new measures as needed (http://www.AHRQ.gov/CHIPRA). CHIPRA stipulates that improved core measures be identified annually, beginning January 1, 2013. Under the PQMP, measures are being developed and improved by 7 AHRQ-CMS Centers of Excellence (http://www.AHRQ.gov/CHIPRA/PQMPFACT.htm). In addition, this notice seeks public nominations of measures for potential inclusion in Improved Core Sets.

In order to assist AHRQ and CMS to assess the importance, validity, and feasibility of submitted measures, a Subcommittee on Children's Healthcare Quality Measures of the AHRQ National Advisory Council on Healthcare Research and Quality (SNAC) has been established (http://www.ahrq.gov/chipra/panellist11.htm). The Subcommittee will consider measures submitted through this public call, and measures submitted by the 7 AHRQ-CMS Centers of Excellence.

CHIPRA asks that measures in the improved core sets be: evidence-based; able to identify disparities by race, ethnicity, socioeconomic status, and special health care need; risk-adjusted as appropriate; and designed to ensure that data are collected and reported in a standard format that permits comparison of quality and data at a State, plan, and provider level.

Dated: February 15, 2012.
Carolyn M. Clancy,
AHRQ Director.

[FR Doc. 2012-4267 Filed 2-23-12; 8:45 am]

BILLING CODE 4160-90-M